COMMITTEE FOR THE IMPLEMENTATION OF TEXTILE AGREEMENTS

Entry of Shipments of Cotton, Wool, Man-Made Fiber, Silk Blend and Other Vegetable Fiber Textiles and Apparel in Excess of China Textile Safeguard Limits.

April 21, 2005.

AGENCY: The Committee for the Implementation of Textile Agreements (CITA).

ACTION: Issuing a Directive to Commissioner, Customs and Border Protection.

FOR FURTHER INFORMATION CONTACT: Ross Arnold, International Trade Specialist, Office of Textiles and Apparel, U.S. Department of Commerce, (202) 482-3400.

SUPPLEMENTARY INFORMATION:

Authority: Executive Order 11651 of March 3, 1972, as amended; Section 204 of the Agricultural Act of 1956, as amended (7 U.S.C. 1854).

In a notice and letter to the Commissioner, Bureau of Customs and Border Protection published in the Federal Register on December 13, 2004, the Committee for the Implementation of Textile Agreements (CITA) announced staged entry of overshipments of ATC quotas, China textile safeguard quotas, and textile quotas on non-WTO countries without agreements in place for 2005. (See 69 FR 72181). That notice referred to a previous notice, published on June 25, 2004, which reminded the public that CITA has the right to permanently deny, or to stage entry of overshipments of textile quotas. (See 69 FR 35586). This notice is to inform the public that overshipments of merchandise subject to any China textile safeguard limits shall be subject to delayed and staged entry, in a manner similar to the procedure explained in the December 13, 2004 notice and letter. In the absence of bilateral agreement with the Government of the People's Republic of China establishing limits beyond the expiration date of safeguard quotas, any overshipments of those quotas shall be subject to the following procedure:

1.) Entry will not be allowed until one month after the expiration date of the safeguard quota.

2.) At that time, only 5 percent of the base limit will be allowed entry for a one month period beginning on that date.

3) An additional 5 percent will be allowed entry monthly until all overshipments are allowed entry.

A textile safeguard limit on socks from China in Categories 332/432/632part has been in place since October 29, 2004, and extends through October 28, 2005. (See 69 FR 63371). Any overshipments of this limit shall be subject to delayed and staged entry as described above, and as provided specifically in the accompanying directive to the Commissioner of U.S. Customs and Border Protection. The base limit for the socks quota for October 29, 2004-October 28, 2005 can be found on the web at http://otexa.ita.doc.gov/ under “Summary of Agreements.”

James C. Leonard III,
Chairman, Committee for the Implementation of Textile Agreements.

Committee for the Implementation of Textile Agreements

April 21, 2005.

Commissioner of Customs,

Department of the Treasury, Washington, DC 20229.

Dear Commissioner: This directive provides instructions on permitting entry to goods shipped in excess of the China textile safeguard limit on socks in categories 332/432/632part, which covers goods exported from China during the October 29, 2004 - October 28, 2005 period. For all shipments exported from China that exceed that limit, you are directed to deny entry until November 29, 2005, subject to the following procedure. From November 29 through December 28, 2005, you are directed to permit entry to goods in an amount equal to 5 percent of the applicable base safeguard limit. For each succeeding period, beginning on the 29th of the month, and extending through the 28th of the following month, to permit entry to goods in an amount equal to 5 percent of the applicable base safeguard limit, until all shipments in excess of the safeguard limit have been entered.

The Committee for the Implementation of Textile Agreements has determined that this action falls within the foreign affairs exception to the rulemaking provisions of 5 U.S.C. 553(a)(1).

Sincerely,

James C. Leonard III,

Chairman, Committee for the Implementation of Textile Agreements.

[FR Doc. E5-1976 Filed 4-25-05; 8:45 am]

BILLING CODE 3510-DS-S